DEPARTMENT OF LABOR

Employment and Training Administration

[TA-W-59,463]

Ash Grove Cement Company Rivergate Lime Plant; Portland, OR; Notice of Negative Determination on Reconsideration

On August 7, 2006, the Department issued an Affirmative Determination Regarding Application for Reconsideration for the workers and former workers of Ash Grove Cement Company, Rivergate Lime Plant, Portland, Oregon (subject firm). The Department's Notice of Affirmative Determination was published in the Federal Register on September 26, 2006 (71 FR 56169). Although the petition states that the subject firm produces calcium oxide, the investigation revealed that ground limestone, ground dolomite, and calcium hydroxide are produced as well as calcium oxide. The subject workers are not separately identifiable by product line. The petitioner (the subject firm) requested that the Department consider TA-W-59,463 as both a primary and secondary petition.

The petition for the workers of the subject firm was denied because there was no shift of production and the “contributed importantly” group eligibility requirement of section 222 of the Trade Act of 1974, as amended, was not met. The “contributed importantly” test is generally demonstrated through increased imports by either the subject firm or its customers of those articles produced by the subject worker group.

The investigation revealed that although calcium oxide production had ceased, there was no shift of production from the subject facility to a country that is party to a free trade agreement with the United States, or a country that is named as a beneficiary under the Andean Trade Preference Act, the African Growth and Opportunity Act or the Caribbean Basin Economic Recovery Act. The investigation also revealed that neither the subject firm nor its customers increased imports of calcium oxide during the relevant period.

Because the determination did not state whether the subject worker group is eligible for TAA as workers of a secondarily-affected firm, the Department issued the Notice of Affirmative Determination Regarding Application for Reconsideration.

In the initial petition, the company official asserts that the subject firm supplied calcium oxide to Oregon Steel Mills (TAA certified on May 9, 2003; TA-W-50,706). In the request for reconsideration, the company official stated that “calcium oxide produced at the plant is sold for a variety of end uses but is primarily used in the iron and steel making industry.” The company official also asserts that the closure of Oregon Steel Mills, Portland, Oregon in May 2003 (one of two major customers) and the subject firm's inability to secure another high-volume customer led to the closure of the calcium oxide line and the workers' separations.

During the reconsideration investigation, the company official confirmed that calcium oxide production ceased at the subject facility on May 31, 2006. Calcium oxide constituted a meaningful portion of production at the subject facility.

During the reconsideration investigation, the company official provided new information that indicated that there are several major declining calcium oxide customers during the relevant period. In response to this new information, the Department carefully reviewed previously-submitted information and conducted a new survey to determine whether these customers had increased import purchases of calcium oxide while declining their purchases from the subject firm during the relevant period. The reconsideration investigation revealed no increased imports of calcium oxide by these customers.

For certification on the basis of the workers' firm being a secondary upstream supplier, the subject firm must have customers that are TAA certified during the relevant period and the TAA certified customers must represent a significant portion of subject firm's business during the relevant period. In addition, the subject firm would have to produce a component part of the product that was the basis for the customers' certification.

Because the TAA certification for Oregon Steel Mills, Portland, Oregon had expired on May 9, 2005, that customer cannot be a basis for certification of the subject firm as an affected secondary upstream supplier. Further, since Oregon Steel Mills, Portland, Oregon ceased production in May 2003, that customer cannot have represented a significant portion of the subject firm's business during the relevant period. As such, the subject workers are not eligible for TAA under secondary impact.

In order for the Department to issue a certification of eligibility to apply for ATAA, the subject worker group must be certified eligible to apply for TAA. Since the subject workers are denied eligibility to apply for TAA, the workers cannot be certified eligible for ATAA.

Conclusion

After careful reconsideration, I affirm the original notice of negative determination of eligibility to apply for worker adjustment assistance for workers and former workers of Ash Grove Cement Company, Rivergate Lime Plant, Portland, Oregon.

Signed at Washington, DC, this 28th day of September, 2006.
Elliott S. Kushner,
Certifying Officer, Division of Trade Adjustment Assistance.

[FR Doc. E6-17105 Filed 10-13-06; 8:45 am]

BILLING CODE 4510-30-P